DEPARTMENT OF JUSTICE

Immigration and Naturalization Service

Agency Information Collection Activities; Comment Request

ACTION: Notice of Information Collection Under Review; Application for Certificate of Citizenship.

The Department of Justice, Immigration and Naturalization Service (Service) has submitted the following information collection request for review and clearance in accordance with the Paperwork Reduction Act of 1995. The Service is considering consolidating the Form N-643, and the Form N-600/N-643, Supplement A, into the Form N-600. In addition, the information collection requirement, Form N-600 is in the process of being revised. Until such proposed revised form is approved by the Office of Management and Budget, the public should continue to use Forms N-600, N-643, and N-600/N-643, Supplement A until further notice.

The Service is publishing a draft copy of this form as well as the related interim rule elsewhere in this issue of the Federal Register to allow the public an opportunity to comment on the form and the rule simultaneously. Written comments on the form are encouraged and will be accepted for sixty days until August 13, 2001. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: Application for Certificate of Citizenship.

(3) Agency form number, if any, and the applicable component of the Department of Justice sponsoring the collection: Form N-600. Adjudications Division, Immigration and Naturalization Service.

(4) Affected public who will be asked or required to respond, as well as a brief abstract: Primary: Individuals or households. This form is provided by the Service as a uniform format for obtaining essential data necessary to determine the applicant's eligibility for the requested immigration benefit.

(5) An estimate of the total number of respondents and the amount of time estimated for an average respondent to respond: 67,936 responses at 1 hour per response.

(6) An estimate of the total public burden (in hours) associated with the collection: 67,936 annual burden hours.

Organizations and individuals interested in submitting comments regarding this burden estimate or any aspect of this information collection requirement, including suggestions for reducing the burden, should direct them to the Immigration and Naturalization Service, Policy Directives and Instructions Branch, Immigration and Naturalization Service, Room 4034, 425 I Street, NW., Washington, DC 20536; Attention: Richard A. Sloan, Director, (202) 514-3291.

If additional information is required contact: Mr. Robert B. Briggs, Clearance Officer, United States Department of Justice, Information Management and Security Staff, Justice Management Division, 1331 Pennsylvania Avenue, NW., National Place Building, Suite 1220, Washington, DC 20530.

Dated: June 8, 2001.
Richard A. Sloan,
Department Clearance Officer, Department of Justice, Immigration and Naturalization Service.

BILLING CODE 4410-10-M

[FR Doc. 01-14855 Filed 6-12-01; 8:45 am]

BILLING CODE 4410-10-C